DEPARTMENT OF COMMERCE

National Institute of Standards and Technology

Manufacturing Extension Partnership Advisory Board

AGENCY: National Institute of Standards and Technology, Commerce

ACTION: Notice of open meeting.

SUMMARY: The National Institute of Standards and Technology (NIST) announces that the Manufacturing Extension Partnership (MEP) Advisory Board will hold an open meeting on Thursday September 15, 2016, from 8:00 a.m. to 3:30 p.m. Eastern Time.

DATES: The meeting will be held Thursday, September 15, 2016, from 8:00 a.m. to 3:30 p.m. Eastern Time.

ADDRESSES: The meeting will be held at the Detroit Marriott at the Renaissance Center, 400 Renaissance Dr. W., Detroit, Michigan 48243. Please note admittance instructions in the SUPPLEMENTARY INFORMATION section below.

FOR FURTHER INFORMATION, CONTACT: Cheryl L. Gendron, Manufacturing Extension Partnership, National Institute of Standards and Technology, 100 Bureau Drive, Mail Stop 4800, Gaithersburg, Maryland 20899-4800, telephone number (301) 975-2785, email: Cheryl.Gendron@nist.gov.

SUPPLEMENTARY INFORMATION: The MEP Advisory Board (Board) is authorized under Section 3003(d) of the America COMPETES Act (Pub. L. 110-69); codified at 15 U.S.C. 278k(e), as amended, in accordance with the provisions of the Federal Advisory Committee Act, as amended, 5 U.S.C. App. The Hollings MEP Program is a unique program, consisting of centers across the United States and Puerto Rico with partnerships at the state, federal, and local levels. The Board provides the Hollings MEP advice and assessments on programs, plans, and policies focused on supporting and growing the U.S. manufacturing industry, provides advice on MEP programs, plans, and policies, assesses the soundness of MEP plans and strategies, and assesses current performance against MEP program plans.

Background information on the Board is available at http://www.nist.gov/mep/about/advisory-board.cfm.

Pursuant to the Federal Advisory Committee Act, as amended, 5 U.S.C. App., notice is hereby given that the MEP Advisory Board will hold an open meeting on Thursday, September 15, 2016, from 8:00 a.m. to 3:30 p.m. Eastern Time. This meeting will focus on several topics. The Board will receive an update on NIST MEP programmatic operations, as well as provide guidance and advice to MEP senior management on the drafting of the 2017-2022 Strategic Plan. The Board will also provide input to MEP on developing protocols that will connect user facilities, research, and technologies at NIST and other federal laboratories with the help of the MEP network to support small and mid-size manufacturers, and make recommendations on the establishment of an MEP Learning Organization. This encompasses an effort to strengthen connections by sharing best practices and building Working Groups and Communities of Practice for furtherance of the Hollings MEP Program's mission. The final agenda will be posted on the MEP Advisory Board Web site at http://www.nist.gov/mep/about/advisory-board.cfm. This is meeting is being held in conjunction with the MEP Update Meeting that will be held September 14, 2016 also at the Detroit Marriott at the Renaissance Center.

Admittance Instructions: Anyone wishing to attend the MEP Advisory Board meeting should submit their name, email address and phone number to Cheryl Gendron (Cheryl.Gendron@nist.gov or 301-975-2785) no later than Tuesday, September 6, 2016, 5:00 p.m. Eastern Time.

Individuals and representatives of organizations who would like to offer comments and suggestions related to the MEP Advisory Board's business are invited to request a place on the agenda. Approximately 15 minutes will be reserved for public comments at the end of the meeting. Speaking times will be assigned on a first-come, first-served basis. The amount of time per speaker will be determined by the number of requests received but is likely to be no more than three to five minutes each. The exact time for public comments will be included in the final agenda that will be posted on the MEP Advisory Board Web site at http://www.nist.gov/mep/about/advisory-board.cfm. Questions from the public will not be considered during this period. Speakers who wish to expand upon their oral statements, those who had wished to speak but could not be accommodated on the agenda, and those who were unable to attend in person are invited to submit written statements to the MEP Advisory Board, National Institute of Standards and Technology, 100 Bureau Drive, Mail Stop 4800, Gaithersburg, Maryland 20899-4800, via fax at (301) 963-6556, or electronically by email to Cheryl.Gendron@nist.gov.

Kevin A. Kimball,
Chief of Staff.

[FR Doc. 2016-20746 Filed 8-29-16; 8:45 am]

BILLING CODE 3510-13-P